DEPARTMENT OF HEALTH AND HUMAN SERVICES

Centers for Disease Control and Prevention

[60Day-21-0017; Docket No. CDC-2021-0073]

Proposed Data Collection Submitted for Public Comment and Recommendations

AGENCY: Centers for Disease Control and Prevention (CDC), Department of Health and Human Services (HHS).

ACTION: Notice with comment period.

SUMMARY: The Centers for Disease Control and Prevention (CDC), as part of its continuing effort to reduce public burden and maximize the utility of government information, invites the general public and other Federal agencies the opportunity to comment on a proposed and/or continuing information collection, as required by the Paperwork Reduction Act of 1995. This notice invites comment on a proposed information collection project titled Application for Training, which supports the management and evaluation of online training and professional development opportunities for public health and health care professionals.

DATES: CDC must receive written comments on or before September 24, 2021.

ADDRESSES: You may submit comments, identified by Docket No. CDC-2021-0073 by any of the following methods:

• Federal eRulemaking Portal: Regulations.gov. Follow the instructions for submitting comments.

• Mail: Jeffrey M. Zirger, Information Collection Review Office, Centers for Disease Control and Prevention, 1600 Clifton Road NE, MS-D74, Atlanta, Georgia 30329.

Instructions: All submissions received must include the agency name and Docket Number. CDC will post, without change, all relevant comments to Regulations.gov.

Please note: Submit all comments through the Federal eRulemaking portal (regulations.gov) or by U.S. mail to the address listed above.

FOR FURTHER INFORMATION CONTACT: To request more information on the proposed project or to obtain a copy of the information collection plan and instruments, contact Jeffrey M. Zirger, Information Collection Review Office, Centers for Disease Control and Prevention, 1600 Clifton Road NE, MS-D74, Atlanta, Georgia 30329; phone: 404-639-7570; Email: omb@cdc.gov.

SUPPLEMENTARY INFORMATION: Under the Paperwork Reduction Act of 1995 (PRA) (44 U.S.C. 3501-3520), Federal agencies must obtain approval from the Office of Management and Budget (OMB) for each collection of information they conduct or sponsor. In addition, the PRA also requires Federal agencies to provide a 60-day notice in the Federal Register concerning each proposed collection of information, including each new proposed collection, each proposed extension of existing collection of information, and each reinstatement of previously approved information collection before submitting the collection to the OMB for approval. To comply with this requirement, we are publishing this notice of a proposed data collection as described below.

The OMB is particularly interested in comments that will help:

1. Evaluate whether the proposed collection of information is necessary for the proper performance of the functions of the agency, including whether the information will have practical utility;

2. Evaluate the accuracy of the agency's estimate of the burden of the proposed collection of information, including the validity of the methodology and assumptions used;

3. Enhance the quality, utility, and clarity of the information to be collected;

4. Minimize the burden of the collection of information on those who are to respond, including through the use of appropriate automated, electronic, mechanical, or other technological collection techniques or other forms of information technology, e.g., permitting electronic submissions of responses; and

5. Assess information collection costs.

Proposed Project

Application for Training (OMB Control No. 0920-0017, Exp. 04/30/2022)—Revision—Center for Surveillance, Epidemiology, and Laboratory Services (CSELS), Centers for Disease Control and Prevention (CDC).

Background and Brief Description

This Information Collection Request (ICR) is for the Revision of a currently approved ICR (OMB Control No. 0920-0017, Expiration 4/30/2022. Approval is requested for three years. The mission of CDC's Division of Scientific Education and Professional Development (DSEPD) is to support the development of a competent, sustainable, and empowered public health workforce. Professionals in public health, epidemiology, medicine, economics, information science, veterinary medicine, nursing, public policy, and other related professions seek professional development opportunities (both accredited and nonaccredited) through two CDC learning management systems. These two learning management systems are Training and Continuing Education Online (TCEO) (for accredited courses) and CDC TRAIN (for nonaccredited courses developed by CDC programs, grantees, and other funded partners). Access to quality and accredited learning programs and products through these two systems allow for the public health workforce to broaden their knowledge and skills to improve the science and practice of public health for domestic and international impact.

The overarching purpose of the ICR is to continually improve CDC training activities, and maintain CDC compliance with mandatory accreditation organization standards by efficiently collecting information through CDC's Training and Continuing Education Online (TCEO) and CDC TRAIN systems, while navigating a future merger that moves to using a single system (CDC TRAIN).

This Revision requests to extend current approval of the TCEO forms, with one minor change, namely to add two new response options for one question on the TCEO New Participant Registration. This Revision also requests to add CDC TRAIN as a data collection system and add two CDC TRAIN standard training evaluation tools (one for use immediately after the course is taken, and one 3-6 months after the course is taken) that will be employed on the learning management system. This proposed change will provide CDC with an efficient, effective, and secure electronic mechanism for collecting, processing, and monitoring training-related information.

CDC will use information collected in both systems to evaluate and improve courses based on learner feedback. At this time, TCEO is also used to generate certificates of attendance and verify training completion, review and approve proposals for educational activities to receive continuing education accreditation, and ensure compliance with mandatory accreditation standards.

All data will be collected online, using secure electronic web-based password protected platforms. Respondents will include educational developers requesting accreditation for their trainings and public health and healthcare professionals who seek training. No statistical methods will be used to analyze the information collected. CDC will use identifiable information in TCEO to track participant completion of educational activities to facilitate required reporting to earn continuing education credits, hours, or units. Aggregate and non-aggregate data from the evaluations in TCEO and CDC TRAIN will be used to improve educational activities and assess learning outcomes.

CDC requests approval for an estimated 412,600 annual burden hours. There are no costs to respondents other than their time.

Estimated Annualized Burden Hours
Type of respondents | Form name | Number of respondents | Number of responses per respondent | Average burden time per response (in hours) | Total Response Burden (in hours)
Educational Developers (Health Educators) | TCEO Proposal | 120 | 1 | 5 | 600
Public Health and Health Care Professionals (Learners) | TCEO New Participant Registration | 300,000 | 1 | 5/60 | 25,000
Public Health and Health Care Professionals (Learners) | TCEO Post-Course Evaluation | 300,000 | 3 | 10/60 | 150,000
Public Health and Health Care Professionals (Learners) | TCEO Follow-Up Evaluation | 30,000 | 3 | 3/60 | 4,500
TCEO Sub-Total |  |  |  |  | 180,100
Public Health and Health Care Professionals (Learners) | CDC TRAIN Immediate Post-Course Evaluation Tool | 300,000 | 3 | 15/60 | 225,000
Public Health and Health Care Professionals (Learners) | CDC TRAIN Delayed Follow-Up Evaluation Tool | 30,000 | 3 | 5/60 | 7,500
0.33TRAIN Sub-Total |  |  |  |  | 232,500
Total |  |  |  |  | 412,600

Jeffrey M. Zirger,
Lead, Information Collection Review Office, Office of Scientific Integrity, Office of Science, Centers for Disease Control and Prevention.

[FR Doc. 2021-15794 Filed 7-23-21; 8:45 am]

BILLING CODE 4163-18-P